DEPARTMENT OF COMMERCE

International Trade Administration

[A-570-827]

Certain Cased Pencils from the People's Republic of China: Rescission of Antidumping Duty New Shipper Review

AGENCY: Import Administration, International Trade Administration, Department of Commerce.

ACTION: Notice of Rescission of Antidumping Duty New Shipper Review of Certain Cased Pencils from the People's Republic of China.

SUMMARY: The Department of Commerce (the Department) is rescinding the antidumping duty new shipper review, requested by Wuxi Andi Civilization PE Gift Give Away Co., Ltd. (Wuxi or respondent), the exporter, and Safety Touch & Javithon Inc., (Safety Touch) the importer, of the antidumping duty order on certain cased pencils from the People's Republic of China (PRC). The period of the requested review is December 1, 2000 through May 31, 2001.

EFFECTIVE DATE: March 14, 2002.

FOR FURTHER INFORMATION CONTACT: John Conniff or Paul Stoltz, AD/CVD Enforcement, Office 4, Group II, Import Administration, International Trade Administration, U.S. Department of Commerce, 14th Street and Constitution Avenue, N.W., Washington, D.C. 20230; telephone (202) 482-1009 and (202) 482-4474, respectively.

SUPPLEMENTARY INFORMATION:

The Applicable Statute and Regulations

Unless otherwise indicated, all citations to the Tariff Act of 1930, as amended, (the Act) are references to the provisions effective January 1, 1995, the effective date of the amendments made to the Act by the Uruguay Round Agreements Act. In addition, unless otherwise indicated, all citations to the Department's regulations are to the regulations at 19 CFR Part 351 (2000).

Background

On December 3, 2001, counsel for the respondent notified the Department that it was withdrawing its representation. Counsel instructed the Department to direct all correspondence, questions and inquiries to Safety Touch. On January 23, 2002, the Department notified the petitioner and Safety Touch of the preliminary rescission of the instant new shipper review. On January 28, 2002, the Department published its preliminary rescission in the Federal Register. See Certain Cased Pencils from the People's Republic of China: Preliminary Rescission of Antidumping Duty New Shipper Review, 67 FR 3878 (January 28, 2002). In that notice, we invited interested parties to comment on the preliminary rescission within 21 days of the date of publication of the notice. Interested parties also were notified that they may request a hearing in this review within 30 days of publication of the preliminary results.

Scope of the Review

Imports covered by this review are shipments of certain cased pencils of any shape or dimension which are writing and/or drawing instruments that feature cores of graphite or other materials, encased in wood and/or man-made materials, whether or not decorated and whether or not tipped (e.g., with erasers, etc.) in any fashion, and either sharpened or unsharpened. The pencils subject to this investigation are classified under subheading 9609.10.00 of the Harmonized Tariff Schedules of the United States (HTSUS). Specifically excluded from the scope of this order are mechanical pencils, cosmetic pencils, pens, non-cased crayons (wax), pastels, charcoals, and chalks. Although the HTSUS subheading is provided for convenience and customs purposes our written description of the scope of the order is dispositive.

Changes Since the Preliminary Results

The time limits for submitting comments and requesting a hearing have passed without the Department receiving either comments or hearing requests. We have not changed our preliminary position with respect to rescission of this review. Thus, the Department is rescinding this new shipper review.

This new shipper review and this notice are issued and published in accordance with sections 751(a)(2)(B) and 777(i)(1) of the Act.

March 5, 2002
Bernard T. Carreau,
Deputy Assistant Secretary Import Administration, Group II.

[FR Doc. 02-6178 Filed 3-13-02; 8:45 am]

BILLING CODE 3510-DS-S